DEPARTMENT OF DEFENSE

Department of the Army

Final Environmental Assessment (EA) for BRAC 95 Disposal and Reuse of Camp Pedricktown, NJ

AGENCY: Department of the Army, DoD.

ACTION: Notice of Availability.

SUMMARY: In accordance with the 1995 Defense Base Closure and Realignment Commission, Public Law 101-510 (as amended), the Defense Base Closure and Realignment Act of 1990 recommended the closure of Camp Pedricktown, New Jersey except for the Sievers-Sandberg Reserve Center. A Notice of Intent declaring the Army's intent to prepare an EA for the closure of Camp Pedricktown was published in the Federal Register on September 22, 1995 (60 FR 49264). The Final Environmental Assessment (EA) evaluates the environmental impacts of the disposal and subsequent reuse of the 46 acres involved. The Army will retain 39 acres to support the Reserve Center.

DATES: Comments must be submitted on or before October 23, 2000.

ADDRESSES: A copy of the Final EA and Finding of No Significant Impact may be obtained by writing to Mr. Carl Burgamy, Jr., U.S. Army Corps of Engineers, U.S. Army Engineer District, Mobile (CESA-PD), 109 Saint Joseph Street, Mobile, AL 36602.

FOR FURTHER INFORMATION CONTACT: Mr. Carl Burgamy at (334) 690-2036 or by facsimile at (334) 690-2727.

SUPPLEMENTARY INFORMATION: Alternatives examined in the EA include no action, unencumbered disposal of the property, and encumbered disposal of the property. Encumbered disposal refers to transfer or conveyance of property having restrictions on subsequent use as a result of any Army-imposed or other legal restraint. The unencumbered disposal alternative refers to transfer or conveyance of property without encumbrances such as environmental restrictions and easements. Under the no action alternative, the Army would not dispose of property but would maintain it in caretaker status for an indefinite period.

The Army's preferred alternative for disposal of Camp Pedricktown excess property is the encumbered disposal of excess property with encumbrances pertaining to easements, use restrictions, and habitat protection and restrictions pertaining to asbestos-containing material, lead-based paint, future remedial activities after transfer, and utility dependencies. The Army analyzes community reuse of the Camp Pedricktown property in the EA as a secondary action resulting from disposal. While the Army does not control the community's reuse of the property, under NEPA, the Army is required to analyze the reasonably foreseeable impacts of its disposal action. The local community has established the Camp Pedricktown Local Redevelopment Authority (CPLRA) to develop and implement a reuse plan for the excess property (46 acres and 29 buildings). Several scenarios for reuse of the excess property were examined in the EA: low, medium-low, and medium intensity reuse scenarios. Based on the reuse as established in the CPLRA plan, the medium intensity scenario most closely resembles the planned reuse.

Copies of the EA and Finding of No Significant Impact are available for review at the Oldmans Township Municipal Building, 32 West Mill Street, Pedricktown, NJ 08067; the Penns Grove-Carneys Point Library, 222 South Broad Street, Penns Grove, NJ 08069; and the Salem County Community College Library, 460 Hollywood Avenue, Carneys Point, NJ 08069.

Dated: September 15, 2000.
Raymond J. Fatz,
Deputy Assistant Secretary of the Army (Environment, Safety and Occupational Health), OASA (I&E).

[FR Doc. 00-24260 Filed 9-20-00; 8:45 am]

BILLING CODE 3710-08-M